DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of December 2003 and January 2004.

In order for an affirmative determination to be made and a certification of eligibility to apply for directly-impacted (primary) worker adjustment assistance to be issued, each of the group eligibility requirements of Section 222(a) of the Act must be met.

I. Section (a)(2)(A) all of the following must be satisfied:

A. a significant number or proportion of the workers in such workers' firm, or an appropriate subdivision of the firm, have become totally or partially separated, or are threatened to become totally or partially separated;

B. the sales or production, or both, of such firm or subdivision have decreased absolutely; and

C. increased imports of articles like or directly competitive with articles produced by such firm or subdivision have contributed importantly to such workers' separation or threat of separation and to the decline in sales or production of such firm or subdivision; or

II. Section (a)(2)(B) both of the following must be satisfied:

A. a significant number or proportion of the workers in such workers' firm, or an appropriate subdivision of the firm, have become totally or partially separated, or are threatened to become totally or partially separated;

B. there has been a shift in production by such workers' firm or subdivision to a foreign county of articles like or directly competitive with articles which are produced by such firm or subdivision; and

C. One of the following must be satisfied:

1. the country to which the workers' firm has shifted production of the articles is a party to a free trade agreement with the United States;

2. the country to which the workers' firm has shifted production of the articles to a beneficiary country under the Andean Trade Preference Act, African Growth and Opportunity Act, or the Caribbean Basin Economic Recovery Act; or

3. there has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) significant number or proportion of the workers in the workers' firm or an appropriate subdivision of the firm have become totally or partially separated, or are threatened to become totally or partially separated;

(2) the workers' firm (or subdivision) is a supplier or downstream producer to a firm (or subdivision) that employed a group of workers who received a certification of eligibility to apply for trade adjustment assistance benefits and such supply or production is related to the article that was the basis for such certification; and

(3) either—

(A) the workers' firm is a supplier and the component parts it supplied for the firm (or subdivision) described in paragraph (2) accounted for at least 20 percent of the production or sales of the workers' firm; or

(B) a loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(Increased imports) and (a)(2)(B)(II.B) (No shift in production to a foreign country) have not been met.

TA-W-53,991; Omni Tech Corp., End-User Div., Pewaukee, WI

TA-W-53,705; Vistakon, a Johnson and Johnson Co., Richard Street Facility, Jacksonville, FL

TA-W-53,397; Alden Scientific Corp., Alden, NY

TA-W-53,570; Thermo Forma, Marietta, OH

TA-W-53,776; Valeo, Inc., Engine Cooling Div., Greensburg, IN

TA-W-53,597; Fashion Technologies, Gaffney, SC

TA-W-53,708; Weyerhaeuser Co., Northwest Hardwoods Div., Sedro Woolley Sawmill, Sedro Woolley, WA

TA-W-53,510; Chicago Bridge & Iron Constructors, Inc., Industrial Div., a subsidiary of Chicago Bridge and Iron Co., N.V., Provo, UT

TA-W-53,899; Crane Lithography, Cedarburg, WI

TA-W-53,735; Phillips Plastics Corp., Multi Shot Facility, Eau Claire, WI

TA-W-53,839; Benitez, Inc., Fishing Vessel (F/V) Mr. Kirton, Corpus Christi, TX

TA-W-53,635; Keykert USA, Inc., Webberville, MI

TA-W-53,650; Stimson Lumber Co., Atlas Plant, Coeur D'Alene, ID

TA-W-53,595; Perm Cast, LLC, a/k/a Grede Foundries, Inc., Cynthiana, KY

TA-W-53,201; Louisiana Pacific Corp., Sandpoint, ID

TA-W-53,632; Coventry Narrow Fabrics, Inc., a div. of Wayne Industries, Coventry, RI

TA-W-53,661; Newstech PA, Northhampton, PA

TA-W-53,680; US Axle, Inc., Pottstown, PA

TA-W-53,942; Winalta USA, Linton, IN

TA-W-53,802; J&L Specialty Steel, LLC, Moon Township, PA

TA-W-53,726; Butler Manufacturing Co., Buildings Div., Galesburg, IL

TA-W-53,630; Pechiney Plastic Packaging, Inc., Meat and Dairy Div., Des Moines, IA

TA-W-53,616; Watlow Controls, Winona, MN

TA-W-53,835; Davidson Printing, Graphic Digital Imaging, Duluth, MN

TA-W-53,829; Micro Contacts, Inc., Warwick Facility, Warwick, RI

TA-W-53,775; Rexnord Corp., Coupling Div., Warren, PA

TA-W-53841; Komo Machine, a div. of PMC Global, Inc., Sauk Rapids, MN

The workers firm does not produce an article as required for certification under Section 222 of the Trade Act of 1974.

TA-W-53,934; Phillips Plastics Corp., Eau Claire, WI

TA-W-53,923; Agilent Technologies Ltd, Data Networks Div., Portsmouth, NH

TA-W-53,852; Solid Wood Systems, Inc., High Point, NC

TA-W-53,892; IBM Global Services, Cypress, CA

TA-W-53,740; Unisys Corp., ETS Industries, Charlotte, NC

TA-W-53,715; Verticalnet, Inc., Endicott, NY

TA-W-53,724; Temporary Solutions, Inc. (TSI), Manassas, VA

TA-W-53,904; Secutronex, Miami, FL

TA-W-53,782; Bombardier Motor Corp. of America, El Paso Warehouse, El Paso, TX

TA-W-53,681; Apache Micro Peripherals, Inc., Irvine, CA

TA-W-53,719; Bluecross Blueshield of Missouri, a div. of Wellpoint Health Networks, Springfield Offices, Springfield, MO

TA-W-53,721; Standard Boiler Works, Lebanon, PA

TA-W-53,783; Geotrac, Inc., Norwalk, OH

TA-W-53,819; APL Logistics, Socorro, TX

TA-W-53,984; GE Insurance, a div. of General Electric Corp., Lynchburg, VA

TA-W-53,848; Hanes Dye & Finishing, Falcon Plant, Easley, SC

TA-W-54,038; Network Associates, Inc., Oakbridge Terrance, IL

TA-W-53,800; Schroeder & Tremayne, Inc., Affton Plant, Saint Louis, MO

TA-W-53,811; Winkelman Photography, Oak Park, IL

TA-W-53,842; Cendant Mobility Service Corp., Danbury, CT

TA-W-53,840; American Eagle Airlines, Lawton, OK

TA-W-53,674; American Express Business Travel Services, Nashville, TN

TA-W-53,675; Pincus Brothers, Inc. (10175 Northeast Boulevard), Philadelphia, PA

TA-W-53,704; Lucent Technologies, Lisle, IL

TA-W-53,457; Thomson, Inc., a subsidiary of Thomson, SA, Indianapolis, IN.

TA-W-53,604; Springs Industries, Inc., Creative Products Group, Rock Hill, SC.

TA-W-53,792; Menasha Forest Products Corp., North Bend, OR.

TA-W-53,850; Combined Specialty Group, Inc., Alpharetta, GA.

TA-W-53,938 & A, B: Oshkosh B'Gosh, Inc., Oshkosh, WI, Oshkosh B'Gosh Retail, Inc., Oshkosh, WI and OBG Product Development and Sales, Inc., Oshkosh, WI.

TA-W-53,900; Pennsylvania Southwestern Railroad, a subsidiary of Watco Companies, Inc., Midland PA.

TA-W-53,903; H.H. Brown Shoe Co., Inc., Carolina Div., Morganton, NC.

TA-W-54,017; NCS Pearson, Inc., d/b/a Person Performance Solutions, Butler, PA.

The investigation revealed that criterion (a)(2)(A)(I.A) (no employment decline) has not been met.

TA-W-53,901; Delaine Worsted Mills, Inc., Gastonia, NC.

TA-W-53,558A; Red Wing Shoe Co., Potosi Manufacturing Plant, Last to Pack Div., Potosi, MO.

The investigation revealed that criteria (a)(2)(A)(I.B) (Sales or production, or both, did not decline) and (a)(2)(A)(II.A) (no employment decline) has not been met.

TA-W-53,886; Fishing Vessel (F/V) Pacific Pacer, Cordova, AK.

TA-W-53,617; Fleetguard, Inc., Neillsville West Plant, a subsidiary of Cummins, Inc., Neillsville, WI.

TA-W-53,838; Wah Chang, a subsidiary of Allegheny Technologies, Inc., Albany, OR.

The investigation revealed that criteria (a)(2)(A) (I.B) (Sales or production, or both, did not decline) and (a) (2)(B)(II.B) (has shifted production to a county not under the free trade agreement with U.S.) have not been met.

TA-W-53,778; Park-Ohio, Inc., Geneva Rubber Div., Geneva, OH.

TA-W-53,565; Nylstar, Inc., Ridgeway, VA.

TA-W-53,538 & A; Allegheny Ludlum Corp., Brackenridge Works, Backenridge, PA and Leechburg Works, Leechburg, PA.

TA-W-53,785; Berger Co., Atchison, KS.

TA-W-53,662; Newstech NY, Inc., Deferiet, NY.

The investigation revealed that criteria (2) has not been met. The workers firm (or subdivision) is not a supplier or downstream producer to trade-affected companies.

TA-W-53,637; Melton's Metals, Concord, NC.

TA-W-53,788; Ohio Valley Alloy Services, Inc., Marietta, OH.

TA-W-53,679; General Cable, Tauton, MS.

Affirmative Determinations for Worker Adjustment Assistance

The following certifications have been issued; the date following the company name and location of each determination references the impact date for all workers of such determination.

The following certifications have been issued. The requirements of (a) (2) (A) (increased imports) of Section 222 have been met.

TA-W-53,746; All Service Molding, Inc., Clay City, KY: November 12, 2002.

TA-W-53,799; Hoffman Carbon, Inc., a div. of Schunk Graphite Technology, a subsidiary of The Schunk Group, Bradford, PA: December 12, 2002.

TA-W-53,653; Portland Forge, a div. of TDY Industries, Inc., Portland, IN: November 21, 2002.

TA-W-53,933; Homak Professional Manufacturing Co., Inc., Bedford Park, IL: January 2, 2003.

TA-W-53,855; American Fast Print Ltd, a subsidiary of Atlantex Ltd, Spartanburg, SC: November 28, 2002.

TA-W-53,321; Charter Fabrics, Inc., New York, NY: September 29, 2002.

TA-W-53,552 & A; Carson Industries, Inc., Carson Home Accents, formerly Gift Hub Limited Partnership, Freeport, PA and Yatesboro, PA: November 14, 2002.

TA-W-53,509; Armstrong Floor Products, A Business Unit of Armstrong World Industries, Warren, AR: November 10, 2002.

TA-W-53,423; Drexel Heritage Furniture Industries, Plant #43, including leased workers of Manpower and Friday Services, Hildebran, NC: October 24, 2002.

TA-W-53,716; Hargro Fabrics, Inc., New York, NY: November 24, 2002.

TA-W-53,699 & A; Tomlinson Industries, Cleveland, OH and West Bend, WI: November 26, 2002.

TA-W-53,902; Technical Rubber Products, Inc., Rockford, TN: December 15, 2002.

TA-W-53,907; Phillips Plastics Corp., Origen Center, Menomonie, WI: December 22, 2002.

TA-W-53,600; Leica Microsystems, Inc., Depew, NY: November 12, 2002.

TA-W-53,645; Robert Bosch Tool Corp., Walnut Ridge, AR: November 24, 2002.

TA-W-53,676; Morton International, Inc., Inorganic and Specialty Solutions, A Rohm and Haas Co., Mainistee, MI: November 19, 2002.

TA-W-53,725; CCI Power Supplies, LLC, Pardeeville, WI: December 3, 2002.

TA-W-53,684; Lempco Industries, Inc., Metals Div., Lexington, OH: November 21, 2002.

TA-W-53,649; Parallax Power Components, a subsidiary of American Circuit Breaker Corpl, Inc., Bridgeport, CT: November 18, 2002.

TA-W-53,567; Ampacet Corp., Latexo, TX: November 12, 2002.

TA-W-53,736; King Products, Los Angeles, CA: November 3, 2002.

TA-W-53,770; L & Z Tool and Engineering, Inc., Watchung, NJ: December 9, 2002.

TA-W-53,988; Coperion Corp., Ramsey, NJ: January 5, 2003.

TA-W-53,774; Aneco Trousers Corp., Hanover, PA: December 9, 2002.

TA-W-53,665; Brown and Williamson Tobacco Corp., Macon, GA: November 14, 2002.

TA-W-53,659; Bristol Compressors, Inc., a subsidiary of York International Corp., Bristol, VA: November 7, 2002.

TA-W-53,701; American Uniform Co., Robbinsville, NC: November 26, 2002.

TA-W-53,609; Conn-Selmer, Inc., a div. of Steinway Musical Instruments, Inc., East Lake Facility, East Lake, Oh: November 17, 2002.

TA-W-53,594; Kaneka Delaware Corp. Delaware City, DE: November 12, 2002.

TA-W-53,612; P.H. Glatfelter Co., Neenah Facility Div., Neenah, WI: November 19, 2002.

TA-W-53,722; Fisher Controls, North Stonington, CT: December 2, 2002.

TA-W-53,686; OGG Harding Machine, Lexington, TN: November 17, 2002.

TA-W-53,742; Delphi Corp., Automotive Holdings Group, Moraine, OH: December 4, 2002.

TA-W-53,733 & A, B; The Coleman Co., Inc., Wichita KS, Maize, KS and Lake City, SC: December 5, 2002.

TA-W-53,831; Green Tree Chemical Technologies, Inc., Parlin, NJ: December 17, 2002.

TA-W-53,879; Johnson-Rose Corp., Lockport, NY: December 17, 2002.

TA-W-53,683; Kirby Manufacturing Co., Inc., Lenoir City, TN: November 25, 2002.

TA-W-53,723 & A,B,C; Johnston Industries, Inc., Langdale Mill, Valley, AL, Utilization Plant, Valley, AL, Lantuck Plant, Lanett, AL, Dewitt Plant, Dewitt, IA: December 2, 2002.

TA-W-53,908; Cal-Jac, Inc., Macon, MS: December 19, 2002.

TA-W-53,859; Crane Plumbing, LLC, Vitreous China Plant, Mansfield, OH: December 6, 2002.

TA-W-53,853; Four Leaf Textiles, LLC, Shamrock Plant, Spindale, NC: December 19, 2002.

TA-W-53,765; Caraustar, Ashland Carton Plant, Custom Packaging Group, Ashland, OH: December 5, 2002.

TA-W-53,756; Viking Pump, Machine Shop Div., Cedar Falls, IA: December 5, 2002.

TA-W-53,515; Thomasville Furniture Industries, Inc., Plant A, Thomasville, NC, A; Plant C, Thomasville, NC, C; Plant D, Thomasville, NC, F; Plant N, Thomasville, NC, G; Plant V, New Veneer Div., Thomasville, NC, H; Plant V, Old Veneer Div., Thomasville, NC, J; Plant X, Thomasville, NC: November 7, 2002.

TA-W-53,558; Red Wing Shoe Co., Potosi Manufacturing Plant, Cut to Fit Div., Potosi, MO: November 5, 2002.

TA-W-53,743 & A; Plastics Engineering Co., Geele Ave. Facility and North Avenue Facility, Sheboygan, WI: December 3, 2002.

TA-W-53,504; Coe Manufacturing Co., Tigard, OR: November 10, 2002.

TA-W-53,588; Amphenol RF, Severna Operations, Parsippany, NJ: November 18, 2003.

TA-W-53,560; International Paper, Shared Services Center, Employed in the Accounts Payable, General Ledger, Credit and Collections Departments, Memphis, TN: November 17, 2002.

TA-W-53,529; Giddings & Lewis LLC, Machine Tools Div., a Company of Thyssenkrupp Industries, AG, Fond du Lac, WI: August 15, 2003.

TA-W-53,512; Plus Mark, Inc., a subsidiary of American Greetings Co., Greenville, TN: November 7, 2002.

TA-W-53,658; Dana Corp., Hydraulics and Chassis Div., Oklahoma City, OK: November 11, 2002.

TA-W-53,480; Bodycote Thermal Processing, Inc., a subsidiary of The Lindberg Corp., Racine, WI: October 31, 2002.

TA-W-53,465; Tomco Products, Inc., Div. of Circor International, Painesville, Township, OH: October 27, 2002.

TA-W-53,384; Deltic Timber Corp., Ola, AR: October 27, 2002.

TA-W-53,194; Penn-Union Corp., Edinboro, PA: October 7, 2003.

TA-W-53,049; Visteon Systems, LLC, North Penn Electronics Facility, Lansdale, PA: September 29, 2002.

TA-W-53,329; Advanced Forming Technology, a div. of Precision Castparts Corp., including leased workers of Corestaff and Express Personnel, Longmont, CO: October 14, 2002.

TA-W-53,325; Halliburton Energy Services, Inc., Security DBS Manufacturing Div., Dallas, TX: October 21, 2002.

TA-W-53,275; Hetran, Inc., Orwigsburg, PA: September 26, 2002.

The following certifications have been issued. The requirements of (a)(2)(B) (shift in production) of Section 222 have been met.

TA-W-53,692; Schrader Bridgeport International, Inc., Muskogee, OK: November 26, 2002.

TA-W-53,773; Ademco, a div. of Honeywell Security, Syosset, NY: October 31, 2003.

TA-W-53,795; Omniglow Corp., West Springfield, MA: December 11, 2002.

TA-W-53,789; Millanwood, Inc., Barnesville, GA: December 9, 2002.

TA-W-53,940; PolyOne Corp., DeForest, WI: December 29, 2002.

TA-W-53,909; Lancer Partnership, Ltd, San Antonio, TX: December 15, 2002.

TA-W-53,836; Olon Industries, Inc., Mocksville, NC: December 5, 2002.

TA-W-53,813; Xtex, Inc., a subsidiary of Eumetra, Greenville, SC: December 12, 2002.

TA-W-53,837; SPX Dock Products, Milwaukee, WI: December 3, 2002.

TA-W-53,707; Demag Plastics Group, Fountain Inn, SC: November 24, 2002.

TA-W-53,784; William Carter Co., Material Utilization Department, Carver Road Plant, Griffin, GA: November 28, 2002.

TA-W-54,034; Andrews Corp., Dallas, TX: January 5, 2003.

TA-W-53,771; Interlink Technologies, d/b/a Homaco, Inc., Chicago, IL: December 9, 2002.

TA-W-53,343; Arteva Specialties S.a.r.l. d/b/a KoSa, Shelby Site Div., Shelby, NC: All workers engaged in the production of polyester textile filament who became totally or partially separated from employment on or after October 23, 2002.

TA-W-53,809; Copperweld Corp., Piqua, OH: December 15, 2002.

TA-W-53,777; Thermo Electron, Materials and Minerals Div., San Diego, CA: December 8, 2002.

TA-W-53,816; Tellabs Operations, Inc., Lisle, IL: November 14, 2002.

TA-W-53,399; Lindberg, Lindberg Div., a unit of SPX Corp., Watertown, WI.

TA-W-53,508 & A; The Paper Magic Group, Inc., Canton, and Troy, PA: November 7, 2002.

TA-W-53,529; General Bindig Corp., Commercial and Consumer Group, including temporary workers from Hamilton-Ryker, Booneville, MS: November 3, 2002.

TA-W-53,728; Wohlert Corp., Gladwin Operations, Gladwin, MI: November 24, 2002.

TA-W-53,424; Clore Automotive, LLC, Eden Prairie, MN: October 30, 2002.

TA-W-53,351 & A,B; GKN Automotive, Inc., Sanford, NC, Mebane, NC and Timberlake, NC: October 24, 2002.

TA-W-53,149; Arch Chemicals, Inc., including leased workers from CDI Processional Services, Lake Charles, LA: October 3, 2002.

TA-W-53,575; PolyOne Corp., Wynne, AR: November 17, 2002.

TA-W-53,296; Solectron Technology, Inc., a subsidiary of Solectron Corp., including temporary workers of Kelly Temporary Services, Charlotte, NC: October 17, 2002.

TA-W-53,511; Rusch, Inc., including leased workers of TRC Staffing, Decatur, GA: November 4, 2002.

TA-W-53,758; Standard Motor Company, Argos Assemblies Plant, Argos, IN: December 8, 2002.

TA-W-53,444; Emerson Process Management Power and Water Solutions, Operations Department, a wholly owned subsidiary of Emerson Co., Pittsburgh, PA: November 5, 2002.

TA-W-53,780; Teva Pharmaceuticals USA, Elmwood Park, NJ: December 10, 2002.

The following certification has been issued. The requirement of upstream supplier to a trade certified primary firm has been met.

TA-W-53,689; Washington Manufacturing Co., LLC, Washington, GA: November 25, 2002.

TA-W-54,061; Eastern Pulp and Paper Co., Inc., Lincoln Pulp and Paper Plant, Lincoln, ME: January 16, 2003.

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department has determined that criterion (2) of Section 246 has not been met. Workers at the firm possess skills that are easily transferable.

TA-W-53,504; Coe Manufacturing Co., Tigard, OR

TA-W-53,588; Amphenol RF, Severna Operations, Parsippany, NJ

TA-W-53,560; International Paper, Shared Services Center, Employed in The Accounts Payable, General Ledger, Credit and Collections Departments, Memphis, TN

TA-W-53,520; Giddings & Lewis LLC, Machine Tools Div., a Company of Thyssenkrupp Industries, AG, Fond du Lac, WI

TA-W-53,512; Plus Mark, Inc., a subsidiary of American Greetings Co., Greeneville, TN

TA-W-53,658; Dana Corp., Hydraulics and Chassis Div., Oklahoma City, OK

TA-W-53,480; Bodycote Thermal Processing, Inc., a subsidiary of The Lindberg Corp., Racine, WI

TA-W-53,465; Tomco Products, Inc., Div. of Circor International, Painesville Township, OH

TA-W-53,384; Deltic Timber Corp., Ola, AR

TA-W-53,194; Penn-Union Corp., Edinboro, PA

TA-W-53,049; Visteon Systems, LLC, North Penn Electronics Facility, Lansdale, PA

TA-W-53,329; Advanced Forming Technology, a div. of Precision Castparts Corp., including leased workers of Corestaff and Express Personnel, Longmont, CO

TA-W-53,325; Halliburton Energy Services, Inc., Security DBS Manufacturing Div., Dallas, TX

TA-W-53,275; Hetran, Inc., Orwigsburg, PA

TA-W-53,777; Thyermo Electron, Materials and Minerals Div., San Diego, CA

TA-W-53,816; Tellabs Operations, Inc., Lisle, IL

TA-W-53,399; Lindberg, Lindberg Div., a Unit of SPX Corp., Watertown, WI

TA-W-53,809; Copperweld Corp., Piqua, OH

TA-W-53,508 & A; The Paper Magic Group, Inc., Canton, PA and Troy, PA 9

TA-W-53,529; General Binding Corp., Commercial and Consumer Group, including temporary workers from Hamilton-Ryker, Booneville, MS

TA-W-53,728; Wohlert Corp., Gladwin Operations, Gladwin, MI

TA-W-53,424; Clore Automotive, LLC, Eden Prairie, MN

TA-W-53,351 & A, B; GKN Automotive, Inc., Sanford, NC, Mebane, NC and Timerlake, NC

TA-W-52,872; Becton Dickinson and Co., Consumer Healthcare Div., Holdrege, NE

TA-W-53,149; Arch Chemicals, Inc., including leased workers from CDI Professional Services, Lake Charles, LA

TA-W-53,296; Solectron Technology, Inc., a subsidiary of Solectron Corp., including temporary workers of Kelly Temporary Service, Charlotte, NC

TA-W-53,511; Rusch, Inc., including leased workers of TRC Staffing, Decatur, GA

TA-W-53,758; Standard Motor Co., Argos Assemblies Plant, Argos, IN

TA-W-53,444; Emerson Process Management Power and Water Solutions, Operations Department, a wholly owned subsidiary of Emerson Co., Pittsburgh, PA

TA-W-53,780; Teva Pharmaceuticals USA, Elmwood Park, NJ

TA-W-53,575; PolyOne Corp., Wynne, AR

Since the workers are denied eligibility to apply for TAA, the workers cannot be certified eligible for ATAA.

TA-W-53,650; Stimson Lumber Co., Atlas Plant, Coer D'Alene, ID

TA-W-53,661; Newstech PA< Northhampton, PA

TA-W-53,595; Perm Cast, LLC, a/k/a Grede Foundries, Inc., Cynthiana, KY

TA-W-53,201; Louisiana Pacific Corp., Sandpoint, ID

TA-W-53,632; Coventry Narrow Fabrics, Inc., a div. of Wayne Industries, Coventry, RI

TA-W-53,680; U.S. Axle, Inc., Pottstown, PA

TA-W-53,942; Winalta USA, Linton, IN

TA-W-53,802; J&L Specialty Steel, LLC, Moon Township, PA

TA-W-53,726; Butler Manufacturing Co., Buildings Div., Galesburg, IL

TA-W-53,630; Pechiney Plastic Packaging, Inc., Meat and Dairy Div., Des Moines, IA

TA-W-53,616; Watlow Controls, Winona, MN

TA-W-53,835; Davidson Printing, Graphic Digital Imaging, Duluth, MN

TA-W-53,829; Micro Contracts, Inc., Warwick Facility, Warwick, RI

TA-W-53,775; Rexnord Corp., Coupling Div., Warren, PA

TA-W-53,841; Komo Machine, a div. of PMC Global, Inc., Sauk Rapids, MN

TA-W-53,842; Cendant Mobility Services Corp., Danbury, CT

TA-W-53,840; American Eagle Airlines, Lawton, OK

TA-W-53,674; American Express Business Travel Services, Nashville, TN

TA-W-53,675; Pincus Brothers, Inc. (10175 Northeast Boulevard), Philadelphia, PA

TA-W-53,704; Lucent Technologies, Lisle, IL

TA-W-53,457; Thomson, Inc., a subsidiary of Thomson, SA, Indianapolis, IN

TA-W-53,604; Springs Industries, Inc., Creative Products Group, Rock Hill, SC

TA-W-53,792; Menasha Forest Products Corp., North Bend, OR

TA-W-53,850; Combined Specialty Group, Inc., Alpharetta, GA

TA-W-53,938 & A, B; Oshkosh B'Gosh, Inc., Oshkosh, WI, Oshkosh B'Gosh Retail, Inc., Oshkosh, WI and OBG Product Development and Sales, Inc., Oshkosh, WI

TA-W-53,900; Pennsylvania Southwestern Railroad, a subsidiary of Watco Companies, Inc., Midland, PA

TA-W-53,903; H.H. Brown Shoe Co., Inc., Carolina Div., Morganton, NC

TA-W-54,017; NCS Pearson, Inc., d/b/a Pearson Performance Solutions, Butler, PA

TA-W-53,679; General Cable, Taunton, MA

TA-W-53,617; Fleetguard, Inc., Neillsville West Plant, a subsidiary of Cummings, Inc., Neillsville, WI

TA-W-53,538 & A; Allegheny Ludlum Corp., Brackenridge Works, Brackenridge, PA and Leechburg Works, Leechburg, PA

TA-W-53,785; Berger Co., Atchison, KS

TA-W-53,662; Newstech NY, Inc., Deferiet, NY

TA-W-53,838; Wah Chang, a subsidiary of Allegheny Technologies, Inc., Albany, OR

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-53,562; Weyerhaeuser, Longview Fine Paper, Longview, WA: November 13, 2002.

TA-W-53,693; Tyco Electronics Corp., Global Industrial and Commercial Business, General Purpose Relay Business Unit, Guttenberg, IA: November 25, 2002.

TA-W-53,885; NTN-BCA Corp., a wholly owned subsidiary of NTN-USA, Greenburg, IN: December 23, 2002.

TA-W-53,604; Carrier Corp., Syracuse, NY: November 14, 2002.

TA-W-53,558; Red Wing Shoe Co., Potosi Manufacturing Plant, Cut to Fit Div., Potosi, MO: November 5, 2002.

TA-W-53,873; Olympic West Sportswear, Inc., a div. of Cascade West Sportswear, Inc., Puyallup, WA: December 22, 2002.

TA-W-53,804; Keef Hosiery, Ft. Payne, AL: December 10, 2002.

TA-W-53,823; Real Wood of Virginia, Inc., d/b/a Cooper Wood Products, including leased workers of Ameristaff, Rocky Mount, VA: December 27, 2003.

TA-W-53,769; Textron Fastening Systems, a subsidiary of Textron, Inc., Greensburg, IN: December 9, 2002.

TA-W-53,796; Sandvik Mining and Tunneling, LLC, Bolt, WV: December 12, 2002.

TA-W-53,821; Parker Hannifin Corp., Hose Products Div., Green Camp, OH: December 16, 2002.

TA-W-53,857; Parkdale America, LLC, Plant #7, Caroleen, NC: December 12, 2002.

TA-W-53,867; Froedtert Malt Co., Inc., West Plant, Milwaukee, WI: December 19, 2002.

TA-W-53,887; Regal Beloit Corp., Motor Technologies Group, Leeson Electric, Grafton, WI: December 23, 2002.

TA-W-53,925; Avery Dennison, Office Products Group, and leased workers of Adecco, Flowery Branch, GA: December 30, 2002.

TA-W-53,945; Basf Corp., Coatings Div., Belvidere, NJ: January 5, 2003.

TA-W-53,952; Pass & Seymour/Legrand, San Antonio, TX: January 5, 2003.

TA-W-53,760; Parker Hannifin Corp., Composite Sealing Systems Div., Tempe, AZ: December 8, 2002.

TA-W-53,729; Adhesive Technologies, Inc., Hampton, NH: November 24, 2002.

TA-W-53,601; Paxar-Alkahn, formerly Alkahn Labels, Inc., Pentex Div., Cowpens, SC: November 20, 2002.

TA-W-53,693; Continental Teves, a div. of Continental Automotive Systems North America, a div. of Continental Automotive Systems, a div. of Continental AG, Asheville, NC: November 20, 2002.

TA-W-53,818; Gross National Product, LLC, Elmhurst, NY: December 16, 2002.

TA-W-53,805; Encompass Group, LLC, Clio, AL: December 12, 2002.

TA-W-53,767; Vermilion Rubber Technology, a div. of The Fukoku Corp., Window Coupling and Anti-Vibration Device Lines, Danville, IL: December 1, 2002.

TA-W-53,600; Leica Microsystems, Inc., Depew, NY: November 12, 2002.

TA-W-53,645; Robert Bosch Tool Corp., Walnut Ridge, AR: November 24, 2002.

TA-W-53,676; Morton International, Inc., Inorganic and Specialty Solutions, A Rohm and Haas Co., Manistee, MI: November 19, 2002.

TA-W-53,725; CCI Power Supplies, LLC, Pardeeville, WI: December 3, 2002.

TA-W-53,684; Lempco Industries, Inc., Metals Div., Lexington, OH: November 21, 2002.

TA-W-53,649; Parallax Power Components, a subsidiary of American Circuit Breaker Corp., Inc., Bridgeport, CT: November 18, 2002.

TA-W-53,567; Ampacet Corp., Latexo, TX: November 12, 2002.

TA-W-53,736; King Products, Los Angeles, CA: November 3, 2002.

TA-W-53,770; L & Z Tool and Engineering, Inc., Watchung, NJ: December 9, 2002.

TA-W-53,988; Coperion Corp., Ramsey, NJ: January 5, 2003.

TA-W-53,774; Aneco Trousers Corp., Hanover, PA: December 9, 2002.

TA-W-53,665; Brown and Williamson Tobacco Corp., Macon, GA: November 14, 2002.

TA-W-53,659; Bristol Compressors, Inc., a subsidiary of York International Corp., Bristol, VA: November 7, 2002.

TA-W-53,701; American Uniform Co., Robbinsville, NC: November 26, 2002.

TA-W-53,609; Conn-Selmer, Inc., a div. of Steinway Musical Instruments, Inc., East Lake Facility, East Lake, OH: November 17, 2002.

TA-W-53,594; Kaneka Delaware Corp., Delaware City, DE: November 12, 2002.

TA-W-53,612; P.H. Glatfelter Co., Neenah Facility Div., Neenah, WI: November 19, 2002.

TA-W-53,722; Fisher Controls, North Stonington, CT: December 2, 2002.

TA-W-53,686; OGG Harding Machine, Lexington, TN: November 17, 2002.

TA-W-53,742; Delphi Corp., Automotive Holdings Group, Moraine, OH: December 4, 2002.

TA-W-53,733 & A, B; The Coleman Co., Inc., Wichita, KS, Maize, KS and Lake City, SC: December 5, 2002.

TA-W-53,831; Green Tree Chemical Technologies, Inc., Parlin, NJ: December 17, 2002.

TA-W-53,879; Johnson-Rose Corp., Lockport, NY: December 17, 2002.

TA-W-53,683; Kirby Manufacturing Co., Inc., Lenoir City, TN: November 25, 2002.

TA-W-53,723 & A,B,C; Johnston Industries, Inc., Langdale Mill, Valley, AL, Utilization Plant, Valley, AL, Lantuck Plant, Lanett, AL and Dewitt Plant, Dewitt, IA: December 2, 2002.

TA-W-53,908; Cal-Jac, Inc., Macon, MS: December 19, 2002.

TA-W-53,859; Crane Plumbing, LLC, Vitreous China Plant, Mansfield, OH: December 6, 2002.

TA-W-53,853; Four Leaf Textiles, LLC, Shamrock Plant, Spindale, NC: December 19, 2002.

TA-W-53,765; Caraustar, Ashland Carton Plant, Custom Packaging Group, Ashland, OH: December 5, 2002.

TA-W-53,756; Viking Pump, Machine Shop Div., Cedar Falls, IA: December 5, 2002.

TA-W-53,515; Thomasville Furniture Industries, Inc., Plant A Thomasville, NC, A; Plant C, Thomasville, NC, C; Plant D, Thomasville, NC, F; Plant N, Thomasville, NC, G; Plant V, New Veneer Div., Thomasville, NC, H; Plant V, Old Veneer Div., Thomasville, NC, J; Plant X, Thomasville, NC: November 7, 2002.

TA-W-54,061; Eastern Pulp and Paper Co., Inc., Lincoln Pulp and Paper Plant, Lincoln, ME: January 16, 2003.

I hereby certify that the aforementioned determinations were issued during the months of December 2003 and January 2004. Copies of these determinations are available for inspection in Room C-5311, U.S. Department of Labor, 200 Constitution Avenue NW., Washington, DC 20210 during normal business hours or will be mailed to persons who write to the above address.

Dated: February 2, 2004.
Timothy Sullivan,
Director, Division of Trade Adjustment Assistance.

[FR Doc. 04-2608 Filed 2-5-04; 8:45 am]

BILLING CODE 4510-30-P